DEPARTMENT OF HOMELAND SECURITY

U.S. Citizenship and Immigration Services

[OMB Control Number 1615-0099]

Agency Information Collection Activities: Application for T Nonimmigrant Status, Form I-914, Application for Immediate Family Member of T-1 Recipient, Supplement A, Declaration of Law Enforcement Officer for Victim of Trafficking in Persons, Supplement B; Revision of a Currently Approved Collection

ACTION: 60-Day notice.

SUMMARY: The Department of Homeland Security (DHS), U.S. Citizenship and Immigration Services (USCIS), invites the general public and other Federal agencies to comment upon this proposed revision of a currently approved collection of information. In accordance with the Paperwork Reduction Act (PRA) of 1995, the information collection notice is published in the Federal Register to obtain comments regarding the nature of the information collection, the categories of respondents, the estimated burden (i.e. the time, effort, and resources used by the respondents to respond), the estimated cost to the respondent, and the actual information collection instruments.

DATES: Comments are encouraged and will be accepted for 60 days until April 4, 2014.

ADDRESSES: All submissions received must include OMB Control Number 1615-0099 in the subject box, the agency name and Docket ID USCIS-2006-0059. To avoid duplicate submissions, please use only one of the following methods to submit comments:

(1) Online. Submit comments via the Federal eRulemaking Portal Web site at www.regulations.gov under e-Docket ID number USCIS-2006-0059;

(2) Email. Submit comments to USCISFRComment@uscis.dhs.gov; or

(3) Mail. Submit written comments to DHS, USCIS, Office of Policy and Strategy, Chief, Regulatory Coordination Division, 20 Massachusetts Avenue NW., Washington, DC 20529-2140.

SUPPLEMENTARY INFORMATION:

Comments

Regardless of the method used for submitting comments or material, all submissions will be posted, without change, to the Federal eRulemaking Portal at http://www.regulations.gov, and will include any personal information you provide. Therefore, submitting this information makes it public. You may wish to consider limiting the amount of personal information that you provide in any voluntary submission you make to DHS. DHS may withhold information provided in comments from public viewing that it determines may impact the privacy of an individual or is offensive. For additional information, please read the Privacy Act notice that is available via the link in the footer of http://www.regulations.gov.

Note: The address listed in this notice should only be used to submit comments concerning this information collection. Please do not submit requests for individual case status inquiries to this address. If you are seeking information about the status of your individual case, please check “My Case Status” online at: https://egov.uscis.gov/cris/Dashboard.do, or call the USCIS National Customer Service Center at 1-800-375-5283.

Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this Information Collection

(1) Type of Information Collection: Revision of a Currently Approved Collection.

(2) Title of the Form/Collection: Application for T Nonimmigrant Status, Application for Immediate Family Member of T-1 Recipient, Declaration of Law Enforcement Officer for Victim of Trafficking in Persons.

(3) Agency form number, if any, and the applicable component of the DHS sponsoring the collection: Form I-914; Form I-914, Supplement A, and; Form I-914, Supplement B; USCIS.

(4) Affected public who will be asked or required to respond, as well as a brief abstract: Primary: Individuals or households. Form I-914 permits victims of severe forms of trafficking and their family members to demonstrate that they qualify for temporary nonimmigrant status pursuant to the Victims of Trafficking and Violence Protection Act of 2000 (VTVPA), and to receive temporary immigration benefits. USCIS is revising Form I-914 to make statutory changes required by the William Wilberforce Trafficking Victims Protection Act of 2008 (TVPRA 2008) and the Trafficking Victims Protection Act of 2013 (TVPRA 2013). Changes to the Form I-914 include:

• Clarifying physical presence includes being allowed entry into the U.S. to participate in investigative or judicial processes associated with an act or perpetrator of trafficking (TVPRA 2013).

• Implementing an exception from compliance with law enforcement requests for assistance due to physical or psychological trauma (TVPRA 2008).

• Implementing a new derivative category for the adult or minor children of a derivative of a principal who face a present danger of retaliation as a result of the principal's escape from trafficking or cooperation with law enforcement (TVPRA 2013).

• The requirement of a personal statement, including A numbers, passports and travel documents only if the applicant has them, ensuring address changes are sent directly to the Vermont Service Center in compliance with the Safe Address procedure to protect victims, explain the principal does not need to file a USCIS Form I-765, Application for Employment Authorization Document, and using the name as it appears on the birth certificate (these are not new collections, merely describing what is needed in plain language), and

• Adding language to clarify the role of law enforcement in the process, in order to speak to their main concerns and questions in plain language.

(5) An estimate of the total number of respondents and the amount of time estimated for an average respondent to respond: Form I-914—926 responses at 2 hours and 15 minutes (2.25) per response; Supplement A—795 responses at 1 hour per response; Supplement B—200 responses at 3 hours and 30 minutes (3.50) per response.

(6) An estimate of the total public burden (in hours) associated with the collection: 4,711 annual burden hours.

If you need a copy of the information collection instrument with instructions, or additional information, please visit the Federal eRulemaking Portal site at: http://www.regulations.gov.

We may also be contacted at: USCIS, Office of Policy and Strategy, Regulatory Coordination Division, 20 Massachusetts Avenue NW., Washington, DC 20529-2140, Telephone number 202-272-8377.

Dated: January 28, 2014.
Laura Dawkins,
Chief, Regulatory Coordination Division, Office of Policy and Strategy, U.S. Citizenship and Immigration Services, Department of Homeland Security.

[FR Doc. 2014-02126 Filed 1-31-14; 8:45 am]

BILLING CODE 9111-97-P